DEPARTMENT OF COMMERCE

International Trade Administration

[C-570-107]

Wooden Cabinets and Vanities and Components Thereof From the People's Republic of China: Preliminary Results of Countervailing Duty Administrative Review, Rescission and Intent To Rescind Administrative Review, in Part; 2019-2020

AGENCY: Enforcement and Compliance, International Trade Administration, Department of Commerce.

SUMMARY: The Department of Commerce (Commerce) preliminarily determines that the companies subject to this countervailing duty (CVD) administrative review of wooden cabinets and vanities and components thereof (cabinets) from the People's Republic of China (China) received countervailable subsidies during the period of review (POR), August 12, 2019, through December 31, 2020. Interested parties are invited to comment on these preliminary results of review.

DATES: Applicable May 6, 2022.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On April 21, 2020, Commerce published the CVD order on cabinets from China.¹ On April 1, 2021, Commerce published a notice of opportunity to request an administrative review of the Order for the POR.² In April 2021, we received timely requests from multiple parties to conduct an administrative review of the Order. On June 11, 2021, we published a notice of initiation for this administrative review.³ For a complete description of the events that followed the initiation of this review, see the Preliminary Decision Memorandum.⁴ The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

¹ See Wooden Cabinets and Vanities and Components Thereof from the People's Republic of China: Countervailing Duty Order, 85 FR 22134 (April 21, 2020) (Order).

² See Antidumping or Countervailing Duty Order, Finding, or Suspended Investigation; Opportunity to Request Administrative Review, 86 FR 17137 (April 1, 2021).

³ See Initiation of Antidumping and Countervailing Duty Administrative Reviews, 86 FR 31282, 31296 (June 11, 2021); see also Initiation of Antidumping and Countervailing Duty Administrative Reviews, 86 FR 41821, 41825 (August 3, 2021).

⁴ See Memorandum, “Wooden Cabinets and Vanities and Components Thereof from the People's Republic of China: Extension of Deadline for Preliminary Results of Countervailing Duty Administrative Review; 2019-2020,” dated December 7, 2021.

On December 7, 2021, Commerce extended the deadline for the preliminary results of this review by 120 days to May 2, 2022.

Scope of the Order

The scope of the Order covers cabinets from China. For a complete description of the scope of the Order, see the Preliminary Decision Memorandum.⁵

⁵ See Memorandum, “Decision Memorandum for the Preliminary Results of the Administrative Review of the Countervailing Duty Order on Wooden Cabinets and Vanities and Components Thereof from the People's Republic of China; 2019-2020,” dated concurrently with, and hereby adopted by, this notice (Preliminary Decision Memorandum).

Methodology

We are conducting this administrative review in accordance with section 751(a)(1)(A) of the Tariff Act of 1930, as amended (the Act). For each of the subsidy programs found to be countervailable, we determine that there is a subsidy, i.e., a financial contribution by an “authority” that confers a benefit to the recipient, and that the subsidy is specific.⁶ For a full description of the methodology underlying our preliminary conclusions, including our reliance, in part, on adverse facts available pursuant to sections 776(a) and (b) of the Act, see the Preliminary Decision Memorandum. A list of topics included in the Preliminary Decision Memorandum is provided in Appendix I to this notice.

⁶ See sections 771(5)(B) and (D) of the Act regarding financial contribution; section 771(5)(E) of the Act regarding benefit; and section 771(5A) of the Act regarding specificity.

Rescission of Administrative Review, in Part

Pursuant to 19 CFR 351.213(d)(1), Commerce will rescind an administrative review, in whole or in part, if the parties that requested a review withdraw the request within 90 days of the date of publication of the notice of initiation. Commerce received withdrawal requests with respect to the 52 companies listed in Appendix II. Because the withdrawal requests were timely filed and no other parties requested a review of these companies, in accordance with 19 CFR 351.213(d)(1), Commerce is rescinding this review of the Order for the 52 companies listed in Appendix II.⁷

⁷ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

Intent To Rescind Administrative Review, in Part

It is Commerce's practice to rescind an administrative review of a CVD order, pursuant to 19 CFR 351.213(d)(3), when there are no reviewable entries of subject merchandise during the POR for which liquidation is suspended.⁸ Normally, upon completion of an administrative review, the suspended entries are liquidated at the CVD assessment rate calculated for the review period.⁹ Therefore, for an administrative review of a company to be conducted, there must be a reviewable, suspended entry that Commerce can instruct U.S. Customs and Border Protection (CBP) to liquidate at the CVD assessment rate calculated for the review period.¹⁰

⁸ Id.

⁹ See 19 CFR 351.212(b)(2).

¹⁰ See 19 CFR 351.213(d)(3).

According to the CBP import data, the following four companies subject to this review did not have reviewable entries of subject merchandise during the POR for which liquidation is suspended: (1) Guangzhou Nuolande Import and Export Co., Ltd.; (2) Linyi Kaipu Furniture Co., Ltd.; (3) Shandong Longsen Woods Co., Ltd.; and (4) Zhoushan For-strong Wood Co., Ltd. Accordingly, in the absence of reviewable, suspended entries of subject merchandise during the POR, we intend to rescind this administrative review with respect to these four companies, in accordance with 19 CFR 351.213(d)(3).

Preliminary Rate for Non-Selected Companies

There are two companies for which a review was requested and not rescinded, and which were not selected as mandatory respondents or found to be cross-owned with a mandatory respondent: (1) Jiangsu Xiangsheng Bedtime Furniture Co., Ltd., and (2) Senke Manufacturing Company. For these non-selected companies, we are basing the subsidy rate on the subsidy rate calculated for Dalian Hualing Wood Co., Ltd., the only mandatory respondent with a preliminary subsidy rate that is not zero, de minimis, or based entirely on facts available.¹¹ This methodology to establish the non-selected subsidy rate is consistent with our practice with regard to the all-others rate, pursuant to section 705(c)(5)(A)(i) of the Act.

¹¹ See Preliminary Decision Memorandum at 6.

Preliminary Results of Administrative Review

As a result of this administrative review, we preliminarily find that the following net countervailable subsidy rates exist for the period August 12, 2019, through December 31, 2020:

Company | Subsidy rate—2019 (percent ad valorem) | Subsidy rate—2020 (percent ad valorem)
Dalian Hualing Wood Co., Ltd | 22.29 | 16.91
Nantong Aershin Cabinet Co., Ltd.¹² | 229.40 | 229.40
Review-Specific Average Rate Applicable to the Following Companies
Jiangsu Xiangsheng Bedtime Furniture Co., Ltd | 22.29 | 16.91
Senke Manufacturing Company | 22.29 | 16.91

Assessment Rates

¹² This company was selected as a mandatory respondent but did not respond to Commerce's initial questionnaire. Accordingly, the rate for this company was based on facts available with an adverse inference pursuant to sections 776(a) and (b) of the Act. For a detailed discussion, see Preliminary Decision Memorandum.

Upon issuance of the final results of this administrative review, consistent with section 751(a)(1) of the Act and 19 CFR 351.212(b)(2), Commerce shall determine, and CBP shall assess, countervailing duties on all appropriate entries covered by this review. For the 52 companies for which this review is rescinded, Commerce will instruct CBP to assess countervailing duties on all appropriate entries at the rate equal to the cash deposit of estimated countervailing duties required at the time of entry, or withdrawal from warehouse, for consumption, during the period August 12, 2019, through December 31, 2020, in accordance with 19 CFR 351.212(c)(l)(i).

For the companies remaining in the review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends, upon publication of the final results, to instruct CBP to collect cash deposits of estimated countervailing duties in the amounts calculated in the final results of this review for the respective companies listed above, on shipments of subject merchandise entered, or withdrawn from warehouse, for consumption on or after the date of publication of the final results of this administrative review. If the rate calculated in the final results is zero or de minimis, no cash deposit will be required on shipments of the subject merchandise entered or withdrawn from warehouse, for consumption on or after the date of publication of the final results of this review.

For all non-reviewed companies, CBP will continue to collect cash deposits of estimated countervailing duties at the all-others rate (i.e., 20.93 percent) ¹³ or the most recent company-specific rate applicable to the company, as appropriate. These cash deposit requirements, when imposed, shall remain in effect until further notice.

¹³ See Order, 85 FR at 22135.

Disclosure and Public Comment

We intend to disclose the calculations performed for these preliminary results to the parties within five days after public announcement of the preliminary results in accordance with 19 CFR 351.224(b). Pursuant to 19 CFR 351.309(c), interested parties may submit case briefs no later than 30 days after the date of publication of this notice. Rebuttal briefs, limited to issues raised in the case briefs, may be filed no later than seven days after the date for filing case briefs.¹⁴ Parties who submit case or rebuttal briefs in this proceeding are encouraged to submit with each argument: (1) A statement of the issue, (2) a brief summary of the argument, and (3) a table of authorities.¹⁵ Commerce has temporarily modified certain of its requirements for serving documents containing business proprietary information.¹⁶

¹⁴ See 19 CFR 351.309(d).

¹⁵ See 19 CFR 351.309(c)(2) and (d)(2).

¹⁶ See Temporary Rule Modifying AD/CVD Service Requirements Due to COVID-19, 85 FR 41363 (July 10, 2020).

Pursuant to 19 CFR 351.310(c), interested parties who wish to request a hearing, limited to issues raised in the case and rebuttal briefs, must submit a written request to the Assistant Secretary for Enforcement and Compliance, filed electronically via ACCESS. An electronically filed document must be received successfully in its entirety by Commerce's electronic records system, ACCESS, by 5:00 p.m. Eastern Time within 30 days after the date of publication of this notice.¹⁷ Requests should contain: (1) The party's name, address and telephone number; (2) the number of participants; and (3) a list of issues to be discussed. If a request for a hearing is made, we will inform parties of the scheduled date and time for the hearing.

¹⁷ See 19 CFR 351.310(c).

Unless extended, we intend to issue the final results of this administrative review, including the results of our analysis of the issues raised by the parties in their case briefs, no later than 120 days after the date of publication of this notice in the Federal Register, pursuant to section 751(a)(3)(A) of the Act.

Notification to Interested Parties

We are issuing and publishing these preliminary results in accordance with sections 751(a)(1) and 777(i)(1) of the Act, and 19 CFR 351.213(d)(4) and 19 CFR 351.221(b)(4).

Dated: May 2, 2022.
Lisa W. Wang,
Assistant Secretary for Enforcement and Compliance.

Appendix I—List of Topics Discussed in the Preliminary Decision Memorandum

I. Summary

II. Background

III. Scope of the Order

IV. Rescission of Administrative Review, in Part

V. Intent to Rescind Administrative Review, in Part

VI. Non-Selected Companies Under Review

VII. Diversification of China's Economy

VIII. Subsidies Valuation

IX. Benchmarks and Discount Rates

X. Use of Facts Otherwise Available and Application of Adverse Inferences

XI. Analysis of Programs

XII. Recommendation

Appendix II—List of Companies for Which Requests for Review Were Timely Withdrawn

1. Anhui Swanch Cabinetry Co., Ltd.

2. Anhui Xinyuanda Cupboard Co., Ltd.

3. Dalian Jiaye Wood Products Co., Ltd.

4. Dalian Meisen Woodworking Co., Ltd.

5. Dandong Laroyal Cabinetry Co., Ltd.

6. Foremost Worldwide Co., Ltd.

7. Fujian Dushi Wooden Industry Co., Ltd.

8. Fujian Senyi Kitchen Cabinet Co., Ltd.

9. Fuzhou CBM Import & Export Co., Ltd.

10. Fuzhou Minlian Wood Industry Co., Ltd.

11. Hangzhou Entop Houseware Co., Ltd.

12. Hangzhou Hoca Kitchen & Bath Products Co., Ltd.

13. Hangzhou Home Dee Sanitary Ware Co., Ltd.

14. Hangzhou Royo Import & Export Co., Ltd.

15. Heyond Cabinet Co., Ltd.

16. Honsoar New Building Material Co., Ltd.

17. HS Furniture Industrial Co., Ltd.

18. Jiang Su Rongxin Wood Industry Co., Ltd.

19. Jiang Su Rongxin Cabinets Ltd.

20. Jiangsu Beichen Wood Co., Ltd.

21. Jiangsu Sunwell Cabinetry Co., Ltd.

22. Jiangsu Weisen Houseware Co., Ltd.

23. KM Cabinetry Co., Limited

24. Kunshan Baiyulan Furniture Co., Ltd.

25. Linyi Bomei Furniture Co., Ltd.

26. Linyi Bonn Flooring Manufacturing Co., Ltd.

27. Morewood Cabinetry Co., Ltd.

28. Pizhou Ouyme Import & Export Trade Co., Ltd.

29. Qingdao Shousheng Industry Co., Ltd.

30. Qufu Xinyu Furniture Co., Ltd.

31. Rizhao Foremost Landbridge Wood Industries Co., Ltd.

32. Rizhao Foremost Woodwork Manufacturing Company Ltd.

33. Shandong Huanmei Wood Co., Ltd.

34. Shanghai Beautystar Cabinetry Co., Ltd.

35. Shanghai Zifeng International Trading Co., Ltd.

36. Sheen Lead International Trading (Shanghai) Co., Ltd.

37. Shenzhen Pengchengzhirong Trade Co., Ltd.

38. Shouguang Fushi Wood Co., Ltd.

39. Shouguang Jinxiangyuan Home Furnishing Co., Ltd.

40. Shouguang Sanyang Wood Industry Co., Ltd.

41. Suzhou Siemo Wood Import & Export Co., Ltd.

42. Tech Forest Cabinetry Co., Ltd.

43. The Ancientree Cabinet Co., Ltd.

44. Weifang Fuxing Wood Co., Ltd.

45. Weihai Jarlin Cabinetry Manufacture Co., Ltd.

46. Xiamen Adler Cabinetry Co., Ltd.

47. Xiamen Goldenhome Co., Ltd.

48. Xuzhou Yihe Wood Co., Ltd.

49. Yichun Dongmeng Wood Co., Ltd.

50. Yixing Pengjia Cabinetry Co., Ltd.

51. Zhangzhou OCA Furniture Co., Ltd.

52. Zhongshan KM Cabinetry Co., Ltd.

[FR Doc. 2022-09816 Filed 5-5-22; 8:45 am]

BILLING CODE 3510-DS-P